DEPARTMENT OF HEALTH AND HUMAN SERVICES

Administration for Children and Families

Submission for OMB Review; Comment Request

Title: Child Care and Development Fund Plan for States/Territories.

OMB No.: 0970-0114.

Description: The Child Care and Development Fund (CCDF) Plan for States and Territories is required from the child care Lead Agency by section 658E of the Child Care and Development Block Grant Act of 1990 (P.L. 101-508), 42 U.S.C. 9858. The implementing regulations for the statutorily required Plan are at 45 CFR 98.10 through 98.18. The Plan, submitted on the ACF-118, is required biennially and remains in effect for two years. This Plan, provides ACF and the public with a description of, and assurance about, the State's child care program. The ACF-118 is approved through October 31, 2001 making it available to States and Territories needing to submit Plan Amendments through the end of the FY 2001 Plan Period. However, in July 2001, States and Territories will be required to submit their FY 2002-2003 Plans. Consistent with the statute and regulations, ACF requests extension of the ACF-118 with minor corrections and modifications. The Tribal Plan (ACF-118A) is not affected by this notice.

Respondents: State and Territorial Lead Agencies.

Annual Burden Estimates:

Instrument | Number of respondents | Number of responses per respondent | Average burden hours per response | Total burden hours
ACF-118 | 56 | .5 | 162.57 | 4,552

Estimated Total Annual Burden Hours:

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: November 8, 2000.
Bob Sargis,
Reports Clearance Officer.

[FR Doc. 00-29463 Filed 11-16-00; 8:45 am]

BILLING CODE 4184-01-M